DEPARTMENT OF DEFENSE

GENERAL SERVICES ADMINISTRATION

NATIONAL AERONAUTICS AND SPACE ADMINISTRATION

[OMB Control No. 9000-0190; Docket No. 2015-0055; Sequence 14]

Federal Acquisition Regulation; Submission for OMB Review; Prohibition on Contracting With Inverted Domestic Corporations—Representation and Notification

AGENCIES: Department of Defense (DOD), General Services Administration (GSA), and National Aeronautics and Space Administration (NASA).

ACTION: Notice of request for public comments regarding a new OMB information clearance.

SUMMARY: Under the provisions of the Paperwork Reduction Act, the Regulatory Secretariat Division will be submitting to the Office of Management and Budget (OMB) a request to review and approve an extension of a currently approved information collection requirement concerning the Prohibition on Contracting with Inverted Domestic Corporations—Representation and Notification. A notice was published in the Federal Register at 79 FR 74558, on December 15, 2014. No comments were received.

DATES: Submit comments on or before July 15, 2015.

ADDRESSES: Submit comments identified by Information Collection 9000-0190 Prohibition on Contracting with Inverted Domestic Corporations—Representation and Notification, by any of the following methods:

• Regulations.gov: http://www.regulations.gov. Submit comments via the Federal eRulemaking portal by searching for OMB control number 9000-0190, Prohibition on Contracting with Inverted Domestic Corporations—Representation and Notification. Select the link “Submit a Comment” that corresponds with “9000-0190; Prohibition on Contracting with Inverted Domestic Corporations—Representation and Notification.” Follow the instructions provided at the “Submit a Comment” screen. Please include your name, company name (if any), and “9000-0190; Prohibition on Contracting with Inverted Domestic Corporations—Representation and Notification” on your attached document.

• Mail: General Services Administration, Regulatory Secretariat Division (MVCB), 1800 F Street NW., Washington, DC 20405. ATTN: Ms. Flowers/IC 9000-0190.

Instructions: Please submit comments only and cite IC 9000-0190 in all correspondence related to this case. All comments received will be posted without change to http://www.regulations.gov, including any personal and/or business confidential information provided.

FOR FURTHER INFORMATION CONTACT: Mr. Michael O. Jackson, Procurement Analyst, Federal Acquisition Policy Division, at 202-208-4949 or email michaelo.jackson@gsa.gov.

SUPPLEMENTARY INFORMATION:

A. Purpose

DoD, GSA, and NASA are issuing a final rule amending the Federal Acquisition Regulation (FAR) to require additional actions by contractors to assist contracting officers in ensuring compliance with the Governmentwide statutory prohibition on the use of appropriated (or otherwise made available) funds for contracts with any foreign incorporated entity that is an inverted domestic corporation or to any subsidiary of such entity.

B. Discussion and Analysis

DoD, GSA, and NASA published a proposed rule at 79 FR 74558 on December 15, 2014, to revise the provisions of the FAR that address the continuing Governmentwide statutory prohibition (in effect since fiscal year 2008) on the use of appropriated (or otherwise made available) funds for contracts with any foreign incorporated entity that is an inverted domestic corporation (under section 835 of the Homeland Security Act of 2002, codified at 6 U.S.C. 395) or any subsidiary of such entity. The rule modifies the existing representation and adds a requirement to notify the contracting officer if the contractor becomes an inverted domestic corporation, or a subsidiary of an inverted domestic corporation, during performance of the contract.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

C. Annual Reporting Burden

The public reporting burden for this collection of information is estimated to average .2 hours per response, including the time for reviewing instructions, searching existing data sources, gathering and maintaining the data needed, and completing and reviewing the collection of information.

The annual reporting burden estimated as follows:

Respondents: 352,000.

Responses per Respondent: 1.

Total Annual Responses: 352,000.

Hours per Response: .2.

Total Burden Hours: 70,400.

Obtaining Copies of Proposals: Requesters may obtain a copy of the information collection documents from the General Services Administration, Regulatory Secretariat Division (MVCB), 1800 F Street NW., Washington, DC 20405, telephone 202-501-4755. Please cite OMB Control Number 9000-0190, Prohibition on Contracting with Inverted Domestic Corporations—Representation and Notification, in all correspondence.

Dated: June 8, 2015.
Edward Loeb,
Acting Director, Federal Acquisition Policy Division, Office of Government-wide Acquisition Policy, Office of Acquisition Policy, Office of Government-wide Policy.

[FR Doc. 2015-14464 Filed 6-12-15; 8:45 am]

BILLING CODE 6820-EP-P